DEPARTMENT OF THE TREASURY

Office of the Comptroller of the Currency

Agency Information Collection Activities: Proposed Information Collection; Submission for OMB Review; Reduction of Permanent Capital Notice

AGENCY: Office of the Comptroller of the Currency (OCC), Treasury.

ACTION: Notice and request for comment.

SUMMARY: The OCC, as part of its continuing effort to reduce paperwork and respondent burden, invites the general public and other Federal agencies to take this opportunity to comment on a new information collection as required by the Paperwork Reduction Act of 1995 (PRA).

An agency may not conduct or sponsor, and a respondent is not required to respond to, an information collection unless it displays a currently valid Office of Management and Budget (OMB) control number.

The OCC is soliciting comment concerning a new information collection titled “Reduction of Permanent Capital Notice.” The OCC also is giving notice that it has sent the collection to OMB for review.

DATES: Comments must be received by August 24, 2016.

ADDRESSES: Because paper mail in the Washington, DC area and at the OCC is subject to delay, commenters are encouraged to submit comments by email, if possible. Comments may be sent to: Legislative and Regulatory Activities Division, Office of the Comptroller of the Currency, Attention: 1557-NEW, 400 7th Street SW., Suite 3E-218, Mail Stop 9W-11, Washington, DC 20219. In addition, comments may be sent by fax to (571) 465-4326 or by electronic mail to prainfo@occ.treas.gov. You may inspect and photocopy comments in person at the OCC, 400 7th Street SW., Washington, DC 20219. For security reasons, the OCC requires that visitors make an appointment to inspect comments. You may do so by calling (202) 649-6700 or, for persons who are deaf or hard of hearing, TTY, (202) 649-5597. Upon arrival, visitors will be required to present valid government-issued photo identification and submit to a security screening in order to inspect and photocopy comments.

All comments received, including attachments and other supporting materials, are part of the public record and subject to public disclosure. Do not include any information in your comment or supporting materials that you consider confidential or inappropriate for public disclosure.

Additionally, please send a copy of your comments by mail to: OCC Desk Officer, 1557-NEW, U.S. Office of Management and Budget, 725 17th Street NW., #10235, Washington, DC 20503 or by email to: oira submission@omb.eop.gov.

FOR FURTHER INFORMATION CONTACT: Shaquita Merritt, OCC Clearance Officer, at (202) 649-5490 or, for persons who are deaf or hard of hearing, TTY, (202) 649-5597, Legislative and Regulatory Activities Division, Office of the Comptroller of the Currency, 400 7th Street SW., Washington, DC 20219.

SUPPLEMENTARY INFORMATION: The OCC is seeking approval for a proposed new information collection:

Title of Collection: Reduction of Permanent Capital Notice.

OMB Control No.: 1557-NEW.

Type of Review: New collection.

Affected Public: Businesses or other for-profit.

Estimated Number of Respondents: 2.

Estimated Frequency of Response: On occasion.

Estimated Total Burden: 40 minutes.

Description: Under 12 CFR 5.55, the OCC will review the information submitted by a Federal savings association in its application or notice requesting approval to issue a capital distribution to determine whether the Federal savings association's request is in accordance with existing statutory and regulatory criteria. In addition, the information provides the OCC with a mechanism for monitoring reductions in capital since these distributions may place the Federal savings association at risk.

On April 26, 2016, the OCC issued a 60-day notice soliciting comment on this proposed information collection, 81 FR 24690. No comments were received. Comments continue to be solicited on:

(a) Whether the proposed collection of information is necessary for the proper performance of the functions of the OCC;

(b) The accuracy of OCC's estimate of the burden of the proposed information collection;

(c) Ways to enhance the quality, utility, and clarity of the information to be collected;

(d) Ways to minimize the burden of the information collection on respondents, including through the use of information technology.

Dated: July 19, 2016.
Karen Solomon,
Deputy Chief Counsel, Office of the Comptroller of the Currency.

[FR Doc. 2016-17490 Filed 7-22-16; 8:45 am]

BILLING CODE 4810-33-P